DEPARTMENT OF JUSTICE

Notice of Lodging of Proposed Consent Decree Under the Comprehensive Environmental Response, Compensation, and Liability Act

On December 6, 2016, the Department of Justice lodged a proposed consent decree with the United States District Court for the District of New Jersey in the lawsuit entitled United States v. International Paper Company, et al., Civil Action No. 3:16-cv-09045-BRM-DEA.

On that same date, the United States filed its lawsuit under Sections 106(a) and 107(a) of the Comprehensive Environmental Response, Compensation and Liability Act (“CERCLA”), 42 U.S.C. 9606(a), 9607(a). The United States' complaint seeks recovery of costs incurred, and performance of remedial action, in connection with the Curtis Specialty Papers Superfund Site, located in the Borough of Milford and the Township of Alexandria, Hunterdon County, New Jersey.

The Consent Decree requires that the defendants shall be responsible, jointly and severally, for paying $1,085,391 in reimbursement of the United States' past response costs, plus interest, payment of interim and future response costs related to the Site, and performance of a remedial action at the Site estimated to cost approximately $1,239,000.

The publication of this notice opens a period for public comment on the consent decree. Comments should be addressed to the Assistant Attorney General, Environment and Natural Resources Division, and should refer to United States v. International Paper Company, et al., D.J. Ref. No. 90-11-3-09445/6. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $85.25 (25 cents per page reproduction cost) payable to the United States Treasury. For a paper copy without the exhibits and signature pages, the cost is $10.75.

Jeffrey K. Sands,
Assistant Section Chief, Environmental Enforcement Section, Environment and Natural Resources Division.

[FR Doc. 2016-29790 Filed 12-12-16; 8:45 am]

BILLING CODE 4410-15-P